NUCLEAR REGULATORY COMMISSION

[Docket No. 50-302; NRC-2009-0039]

Crystal River Nuclear Generating Plant, Unit 3; Application for Renewal of License to Facility; Withdrawal

AGENCY: Nuclear Regulatory Commission.

ACTION: Notice of license renewal application; withdrawal.

ADDRESSES: Please refer to Docket ID NRC-2009-0039 when contacting the NRC about the availability of information regarding this document. You may access information related to this document, which the NRC possesses and are publicly available, using any of the following methods:

• Federal Rulemaking Web site: Go to http://www.regulations.gov and search for Docket ID NRC-2009-0039. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: John Daily, Senior Project Manager, Office of Nuclear Reactor Regulation, U.S. Nuclear Regulatory Commission, Washington, DC 20555-0001; telephone: 301-415-3873; email: John.Daily@nrc.gov.

SUPPLEMENTARY INFORMATION: The U.S. Nuclear Regulatory Commission (NRC) grants the Florida Power Corporation request to withdraw its application for the renewal of operating license DPR-72, which authorizes Florida Power Corporaton (FPC) to operate the Crystal River Nuclear Generating Plant, Unit 3 (CR3), at 2609 megawatts thermal. The FPC stated its decision to withdraw the application is based upon a determination to retire CR3. The CR3 is located near Crystal River, FL; the current operating license for the CR3 expires on December 3, 2016.

The FPC submitted the license renewal application (LRA) by letter dated December 16, 2008, pursuant to Part 54 of Title 10 of the Code of Federal Regulations (10 CFR), to renew operating license DPR-72 for CR3 (ADAMS Accession No. ML090080053). The Commission had previously noticed the acceptance of the application in the Federal Register on March 9, 2009 (74 FR 10099). The FPC requested withdrawal of the application by letter dated February 6, 2013, based on its determination to retire CR3 (ADAMS Accession No. ML13043A028).

The NRC staff completed its “Safety Evaluation Report With Open Items Related to the License Renewal of Crystal River Unit 3 Nuclear Generating Plant” (hereinafter known as the SER) in December 2010 (ADAMS Accession No. ML103490568). Consistent with 10 CFR 54.13(a), “[I]nformation provided to the Commission by an applicant for a renewed license * * * must be complete and accurate in all material respects.” The staff noted that the SER contains nine open items and two confirmatory items; these items are incomplete in regards to 10 CFR 54.13(a). Since the staff's review to date has identified that FPC's application did not provide technical information in sufficient detail to enable the staff to complete its reviews, if FPC decides to re-submit the application, it must include this technical information in sufficient detail to allow the staff to continue its evaluations.

The staff also issued a Notice of Issuance for the draft supplemental environmental impact statement (DSEIS) related to the proposed license renewal, which was published in the Federal Register on June 3, 2011 (76 FR 32237). However, since the licensee has withdrawn its application, all comments received on the DSEIS and all of the above Federal Register Notices need not be and will not be resolved.

For further details with respect to this action, see the LRA dated December 16, 2008, and the licensee's letter of withdrawal dated February 6, 2013.

Dated at Rockville, Maryland, this 28th day of February, 2013.
For the Nuclear Regulatory Commission.
John W. Lubinski,
Director, Division of License Renewal, Office of Nuclear Reactor Regulation.

[FR Doc. 2013-05317 Filed 3-6-13; 8:45 am]

BILLING CODE 7590-01-P